DEPARTMENT OF TRANSPORTATION

Federal Aviation Administration

14 CFR Part 39

[Docket No. FAA-2016-6895; Directorate Identifier 2015-NM-068-AD; Amendment 39-18673; AD 2016-20-07]

RIN 2120-AA64

Airworthiness Directives; Fokker Services B.V. Airplanes

AGENCY: Federal Aviation Administration (FAA), Department of Transportation (DOT).

ACTION: Final rule.

SUMMARY: We are adopting a new airworthiness directive (AD) for certain Fokker Services B.V. Model F28 airplanes. This AD was prompted by reports indicating that the main landing gear (MLG) could not be extended and locked down during approach. This AD requires inspection of the restrictor check valve filter screens to detect any degraded or failed filter screens, and installation of serviceable parts. We are issuing this AD to address the unsafe condition on these products.

DATES: This AD is effective January 3, 2017.

The Director of the Federal Register approved the incorporation by reference of certain publications listed in this AD as of January 3, 2017.

ADDRESSES: For service information identified in this final rule, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221. It is also available on the Internet at http://www.regulations.gov by searching for and locating Docket No. FAA-2016-6895.

Examining the AD Docket

You may examine the AD docket on the Internet at http://www.regulations.gov by searching for and locating Docket No. FAA-2016-6895; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to certain Fokker Services B.V. Model F28 airplanes. The NPRM published in the Federal Register on June 1, 2016 (81 FR 34929) (“the NPRM”). The NPRM was prompted by reports indicating that the MLG could not be extended and locked down during approach. The NPRM proposed to require a detailed inspection of the restrictor check valve filter screens to detect any degraded or failed filter screens, and installation of serviceable parts. We are issuing this AD to detect and correct any degraded or failed filter screens. This condition, if not corrected, could prevent MLG extension and lock-down and result in an emergency landing with consequent injury to occupants and damage to the airplane.

The European Aviation Safety Agency (EASA), which is the Technical Agent for the Member States of the European Union, has issued EASA Airworthiness Directive 2015-0077, dated May 6, 2015 (referred to after this as the Mandatory Continuing Airworthiness Information, or “the MCAI”), to correct an unsafe condition for certain Fokker Services B.V. Model F28 airplanes. The MCAI states:

Two occurrences were reported concerning two different aeroplanes, where during approach, after selecting landing gear down, one of the main landing gears (MLG) could not be extended and locked down. In both cases, subsequent investigation revealed that the filter screen of the corresponding restrictor check valve (integrated in a hydraulic hose assembly) was broken, and debris inside the restrictor check valve was blocking the return flow from the affected MLG actuator. Additional inspection of the fleet of the operator involved revealed more damaged or failed filter screens.

This condition, if not detected and corrected, could prevent MLG extension and lock-down, possibly resulting in an emergency landing with consequent damage to the aeroplane and injury to occupants.

To address this unsafe condition, Fokker Services published SBF28-32-164 and SBF100-32-166 to provide instructions for removal of the affected hydraulic hoses (including the restrictor check valve) to be inspected in-shop, and for installation of serviceable parts. Fokker Services also published Component SB CSB-32-026 to provide those in-shop inspection instructions to detect any damaged filter screen.

For the reasons described above, this [EASA] AD requires a onetime removal of the landing gear hydraulic hoses for the purpose of an in-shop inspection of the affected restrictor check valves filter screens and, depending on findings, re-installation, or replacement of the affected hose(s) with a serviceable part.

This [EASA] AD is considered to be an interim action to detect any degraded or failed filter screens and remove them from service and to collect additional data; further [EASA] AD action may follow. More information on this subject can be found in Fokker Services All Operators Messages AOF28.041 and AOF100.189#02.

You may examine the MCAI in the AD docket on the Internet at http://www.regulations.gov by searching for and locating Docket No. FAA-2016-6895.

Comments

We gave the public the opportunity to participate in developing this AD. We received no comments on the NPRM or on the determination of the cost to the public.

Conclusion

We reviewed the relevant data and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

Fokker Services B.V. has issued the following service information, which describes procedures for the replacement of hydraulic hose assemblies. These service bulletins are distinct because they apply to different airplane models.

• Fokker Service Bulletin SBF28-32-164, dated January 14, 2015.

• Fokker Service Bulletin SBF100-32-166, dated January 14, 2015.

This service information is reasonably available because the interested parties have access to it through their normal course of business or by the means identified in the ADDRESSES section.

Costs of Compliance

We estimate that this AD affects 8 airplanes of U.S. registry.

We estimate the following costs to comply with this AD:

Estimated Costs
Action | Labor cost | Parts cost | Cost per product | Cost on U.S. operators
Inspection | 1 work-hour × $85 per hour = $85 | $3,100 | $3,185 | $25,480
Reporting | 1 work-hour × $85 per hour = $85 | 0 | 85 | 680

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-20-07 Fokker Services B.V.: Amendment 39-18673; Docket No. FAA-2016-6895; Directorate Identifier 2015-NM-068-AD.

(a) Effective Date

This AD is effective January 3, 2017.

(b) Affected ADs

None.

(c) Applicability

This AD applies to Fokker Services B.V. airplanes, certificated in any category, as identified in paragraphs (c)(1) and (c)(2) of this AD.

(1) Model F28 Mark 0070 and Mark 0100 airplanes, all serial numbers (S/Ns).

(2) Model F28 Mark 1000, 2000, 3000, and 4000 airplanes, S/Ns 11003 through 11110 inclusive and S/N 11992, modified in service as specified in Fokker Service Bulletin SBF28-32-123; and S/Ns 11111 through 11241 inclusive.

(d) Subject

Air Transport Association (ATA) of America Code 32, Landing Gear.

(e) Reason

This AD was prompted by reports indicating that the main landing gear (MLG) could not be extended and locked down during approach. We are issuing this AD to detect and correct any degraded or failed filter screens. This condition, if not corrected, could prevent MLG extension and lock-down and result in an emergency landing with consequent injury to occupants and damage to the airplane.

(f) Compliance

Comply with this AD within the compliance times specified, unless already done.

(g) Inspection

Within 18 months after the effective date of this AD, do a detailed inspection of the restrictor check valve filter screens to detect any degraded or failed filter screens including dents and missing wire, and install serviceable parts (hydraulic hose assemblies), in accordance with the Accomplishment Instructions of Fokker Service Bulletin SBF28-32-164, dated January 14, 2015 (for Model F28 Mark 1000, 2000, 3000, and 4000 airplanes); or SBF100-32-166, dated January 14, 2015 (for Model F28 Mark 0070 and 0100 airplanes); as applicable. Any affected hydraulic hose assembly must be replaced before further flight after the inspection.

(h) Serviceable Part

For the purpose of this AD, a serviceable part is a part number (P/N) 97867-1 or P/N 97867-3 hydraulic hose assembly (including the restrictor check valve) that has not previously been installed on an airplane, or a P/N 97867-1 or P/N 97867-3 hydraulic hose assembly (including the restrictor check valve) that has passed an inspection as specified in Fokker Services Component Service Bulletin CSB-32-026.

(i) Parts Installation Prohibition

As of the effective date of this AD, no person may install a replacement P/N 97867-1 or P/N 97867-3 hydraulic hose assembly on an airplane, unless the hydraulic hose assembly is a serviceable part as defined in paragraph (h) of this AD.

(j) Reporting Requirements

At the applicable time specified in paragraph (j)(1) or (j)(2) of this AD, submit a report of the results (including no findings) of the inspection required by paragraph (g) of this AD. Send the report to Fokker Services B.V., Technical Services, Service Engineering, P.O. Box 1357, 2130 EL Hoofddorp, The Netherlands, email technicalservices@fokker.com. The report must include the type of damage found and airplane flight cycles and also any no findings.

(1) If the inspection was done on or after the effective date of this AD: Submit the report within 30 days after the inspection.

(2) If the inspection was done before the effective date of this AD: Submit the report within 30 days after the effective date of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Fokker B.V. Service's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(l) Related Information

Refer to Mandatory Continuing Airworthiness Information (MCAI) European Aviation Safety Agency (EASA) Airworthiness Directive 2015-0077, dated May 6, 2015, for related information. This MCAI may be found in the AD docket on the Internet at http://www.regulations.gov by searching for and locating Docket No. FAA-2016-6895.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Fokker Service Bulletin SBF28-32-164, dated January 14, 2015.

(ii) Fokker Service Bulletin SBF100-32-166, dated January 14, 2015.

(3) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 15, 2016.
Suzanne Masterson,
Acting Manager, Transport Airplane Directorate, Aircraft Certification Service.

[FR Doc. 2016-28341 Filed 11-28-16; 8:45 am]

BILLING CODE 4910-13-P